DEPARTMENT OF TRANSPORTATION

Federal Aviation Administration

Notice of Intent To Rule on Application 04-05-C-00-DTW to Impose and Use the Revenue From a Passenger Facility Charge (PFC) at Detroit Metropolitan Wayne County Airport, Detroit, MI

AGENCY: Federal Aviation Administration (FAA), DOT.

ACTION: Notice of intent to rule on application.

SUMMARY: The FAA proposes to rule and invites public comment on the application to impose and use the revenue from a PFC at Detroit Metropolitan Wayne County Airport under the provisions of the 49 U.S.C. 40117 and part 158 of the Federal Aviation Regulations (14 CFR part 158).

DATES: Comments must be received on or before August 9, 2004.

ADDRESSES: Comments on this application may be mailed or delivered in triplicate to the FAA at the following address: Detroit Airports District Office, 1677 South Wayne Road, Suite 107, Romulus, Michigan 48174.

In addition, one copy of any comments submitted to the FAA must be mailed or delivered to Lester Robinson, Chief Executive Officer of the Wayne County Airport Authority at the following address: Detroit Metropolitan Wayne County Airport, L.C. Smith Terminal—Mezzanine, Detroit, Michigan 48174.

Air carriers and foreign air carriers may submit copies of written comments previously provided to the Wayne County Airport Authority under § 158.23 of part 158.

FOR FURTHER INFORMATION CONTACT: Jason Watt, Program Manager, Federal Aviation Administration, Detroit Airports District Office, 11677 South Wayne Road, Suite 107, Romulus, Michigan 48174, (734) 229-2906. The application may be reviewed in person at this same location.

SUPPLEMENTARY INFORMATION: The FAA proposes to rule and invites public comment on the application to impose and use the revenue from a PFC at Detroit Metropolitan Wayne County Airport under the provisions of the 49 U.S.C. 40117 and part 158 of the Federal Aviation Regulations (14 CFR part 158).

On June 19, 2004, the FAA determined that the application to impose and use the revenue from a PFC submitted by the Wayne County Airport Authority was substantially complete within the requirements of § 158.25 of part 158. The FAA will approve or disapprove the application, in whole or in part, no later than September 21, 2004.

The following is a brief overview of the application.

Proposed charge effective date: September 1, 2029.

Proposed charge expiration date: October 1, 2032.

Level of the proposed PFC: $4.50.

Total estimated PFC revenue: $457,173,000.

Brief description of proposed projects: North Terminal Apron, Runway 3R/21L Design and Pavement Evaluation, McNamara Terminal Phase II Program, Taxiway “Q” Construction, Airfield Safety Vehicles and Equipment, Deicing Pads at Runway 4R, 3L and 22L, Part 150 Study Update, Third Aircraft Rescue and Fire Fighting (ARFF) Facility, Runway 4R/22L Shoulders/Overburden, Perimeter Fencing and Security Enhancements, Surface Movement Guidance Control System (SMGCS), West Airfield Improvements, Runway 3L/21R Planning, and Interconnect Re-route.

Class or classes of air carriers, which the public agency has requested not to be required to collect PFCs: air carriers or foreign air carriers, which enplane fewer than 500 passengers per year.

Any person may inspect the application in person at the FAA office listed above under FOR FURTHER INFORMATION CONTACT.

In addition, any person may, upon request, inspect the application, notice and other documents germane to the application in person at the Wayne County Airport Authority.

Issued in Des Plaines, Illinois, on July 2, 2004.
Elliott Black,
Manager, Planning and Programming Branch, Airports Division, Great Lakes Region.

[FR Doc. 04-15648 Filed 7-8-04; 8:45 am]

BILLING CODE 4910-13-M